DEPARTMENT OF HEALTH AND HUMAN SERVICES

Administration for Community Living

Agency Information Collection Activities: Submission for OMB Review; Public Comment Request; ACL Administration on Aging Formula Grant Programs (OMB Control Number 0985-New)

AGENCY: Administration for Community Living, HHS.

ACTION: Notice.

SUMMARY: The Administration for Community Living (ACL) is announcing that the proposed collection of information listed above has been submitted to the Office of Management and Budget (OMB) for review and clearance as required under section 506(c)(2)(A) of the Paperwork Reduction Act of 1995. This 30-day notice collects comments on the information collection requirements related to the proposed new information collection requirements relating to the ACL Administration on Aging Formula Grant Programs (OMB Control Number 0985-New).

DATES: Comments on the collection of information must be submitted electronically by 11:59 p.m. (EST) or postmarked by October 28, 2024.

ADDRESSES: Submit written comments and recommendations for the proposed information collection within 30 days of publication of this notice to www.reginfo.gov/public/do/PRAMain. Find the information collection by selecting “Currently under 30-day Review—Open for Public Comments” or by using the search function.

By mail to the Office of Information and Regulatory Affairs, OMB, New Executive Office Bldg., 725 17th St. NW, Rm. 10235, Washington, DC 20503, Attention: OMB Desk Officer for ACL.

FOR FURTHER INFORMATION CONTACT: Adam Mosey, ACL Administration on Aging, phone: 202-795-7631 and email: Adam.Mosey@acl.hhs.gov.

SUPPLEMENTARY INFORMATION: In compliance with 44 U.S.C. 3507, ACL has submitted the following proposed collection of information to OMB for review and clearance. This announcement solicits comments on the ACL Administration on Aging Formula Grant Programs. As a center in the Administration for Community Living, the Administration on Aging (AoA) provides expertise on program development, advocacy, initiatives for older Americans, their caregivers, and families. Working with state agencies, local agencies, grantees, and community providers, AoA directs programs authorized by the Older Americans Act (OAA) of 1965 as amended (42 U.S.C 3001 et seq.). The OAA provides the foundation for the National Aging Network, which includes ACL/AoA, state units on aging (SUA), area agencies on aging (AAA), Tribal organizations, service providers, and volunteers. SUAs are an integral part of the network responsible for developing and administering a multi-year state plan that advocates and aids older residents, their families, caregivers, and adults with disabilities. The Elder Justice Act (42 U.S.C. 1397j), passed in 2010 is the first comprehensive legislation to address the abuse, neglect, and exploitation of older adults at the federal level. The law authorized a variety of programs and initiatives to better coordinate federal responses to elder abuse, promote elder justice research and innovation, support Adult Protective Services (APS) systems, and provide additional protections for residents of long-term care facilities. The importance of these services at the state-level and local-level is demonstrated by the fact that states significantly leverage OAA funds to obtain other funding for these activities.

Through these programs, multi-year state plans, assurances, and other financial forms are needed to provide approval and oversight of grant recipients. ACL is seeking approval for a new information collection which will collect data related to AoA formula grant programs. This information collection will include data collection activity for state plans on aging and assurances, financial forms, and a corrective action plan (CAP) template each associated with aging formula grant management. The purpose of this information collection is for programmatic and financial management of the aging and APS formula grants. The state plan on aging documents and provides the opportunity report achievements and planned activities for the multi-year plan period. A wide range of constituents use or will use the state plans on aging to coordinate, monitor, evaluate, and improve aging network by using the state plans on aging as a blueprint for service planning and delivery. Additionally, ACL leverages state plans on aging to understand the numerous services older adults use, and to utilize the information for advocating the needs of older adults, and for requesting additional funding. The financial forms will assist in the facilitation of OAA formula grant management.

Financial forms provide statutorily required information regarding each state's contribution to programs to ensure compliance with legislative requirements, pertinent federal regulations, and other applicable instructions and guidelines issued by ACL. This information will be used for federal oversight of the aging programs. OAA and APS grantees are required to comply with all terms and conditions contained in notices of award (NOA) issued by ACL.

When it is determined that a grantee is not in compliance with one or more of these requirements, ACL may require a grantee submit a plan to enter compliance under a CAP. Any such CAP may require ACL's prior written approval, as determined by ACL. The CAP process is intended to be collaborative. Under a CAP, a grantee and ACL will jointly identify progress milestones and a feasible timeline for the grantee to come into compliance with the applicable requirement. Grantees must make a good faith effort at achieving full compliance to continue with permission from ACL to operate under a CAP.

Comments in Response to the 60-Day Federal Register Notice

In accordance with 5 CFR 1320.8(d), ACL published a 60-day notice in the Federal Register on Wednesday, October 18, 2023, at 88 FR 71869 with a comment period that closed on December 18, 2023. ACL received one comment. The comment and ACL response is provided below:

Organization | Section | Comment | Response
Commonwealth of Virginia, Department for Aging and Rehabilitative Services | Estimated Annualized Burden Table | Noted that the burden estimates for State Plans on Aging, and State Plans on APS are too low. Recommended identification of ways to reduce reporting requirements, as well as revising burden estimates. Recommended survey of states to inform future burden estimates | ACL appreciates the comment but declines to make changes at this time.

This 30-day notice publication makes correction to the information collection type in the previous 30-day notice published in the Federal Register on Tuesday, May 28, 2024, at 89 FR 46123. That notice requested public comment on this information collection as a generic information collection request.

Estimated Program Burden

This new information collection incorporates ACL AoA formula grant programs previously approved under OMB control numbers: 0985-0004 and 0985-0009 and adds new state plans on aging and assurances, financial forms, and a corrective action plan (CAP) template, each associated with aging formula grant management.

ACL estimates the burden of this collection of information as follows:

Data collection activity | Form | Number of respondents | Number of responses per respondent | Average burden hours per response | Total burden hours
State Unit on Aging (SUA) | State Plan on Aging | 15 | 1 | 80 | 1,200
State Unit on Aging (SUA) | Financial Forms | 56 | 5 | 1 | 280
OAA or APS Grantee | Corrective Action Plan | 75 | 1 | 8 | 600
Total Estimated Burden |  |  |  |  | 2,056

Dated: September 21, 2024.
Alison Barkoff,
Principal Deputy Administrator for the Administration for Community Living, performing the delegable duties of the Administrator and the Assistant Secretary for Aging.

[FR Doc. 2024-22034 Filed 9-25-24; 8:45 am]

BILLING CODE 4154-01-P